DEPARTMENT OF ENERGY

Federal Energy Regulatory Commission

[Docket No. EC02-61-000, et al.]

Duke Energy Murray, LLC., et al.; Electric Rate and Corporate Regulation Filings

April 10, 2002.

Take notice that the following filings have been made with the Commission. Any comments should be submitted in accordance with Standard Paragraph E at the end of this notice.

1. Duke Energy Murray, LLC

[Docket No. EC02-61-000]

Take notice that on April 5, 2002, Duke Energy Murray, LLC (Duke Murray or Applicant) filed with the Federal Energy Regulatory Commission (Commission) an application pursuant to Section 203 of the Federal Power Act for authorization of a disposition of jurisdictional facilities whereby Duke Murray will transfer to the Tennessee Valley Authority (TVA) certain transmission components of the Loopers Farm 230 kV Substation, which is located near Duke Murray's 1240 MW generating facility in Murray County, Georgia (the Facility) and which will interconnect a portion of the Facility to the TVA transmission system. In accordance with the terms of an interconnection agreement that will be executed between Duke Murray and TVA, the disposition will be accomplished through a bill of sale. Because TVA is a federal agency, authorization for TVA's purchase of the jurisdictional facilities is not required.

Comment Date: April 26, 2002.

2. La Rosita Energy, B.V.

[Docket No. EG02-113-000]

Take notice that La Rosita Energy, B.V. (La Rosita Energy), tendered for filing with the Federal Energy Regulatory Commission (Commission), an application for determination of exempt wholesale generator status pursuant to Part 365 of the Commission's regulations.

Applicant proposes to own or operate, or both own and operate, natural gas-fired electric generating facilities with an aggregate capacity of approximately 1,060 megawatts (along with certain appurtenant interconnected transmission facilities and an adjacent sewage treatment plant to supply water to the facilities), located near the city of Mexicali in the state of Baja California, Mexico. All output from the generating facilities will be sold exclusively at wholesale.

Comment Date: May 1, 2002.

3. Duke Power, a Division of Duke Energy Corporation

[Docket No. ER96-110-008]

Take notice that on January 23, 2002, Duke Power, a Division of Duke Energy Corporation tendered for filing with the Federal Energy Regulatory Commission (Commission), a letter committing it will treat Engage Energy America LLC and Frederickson Power L.P. as affiliates pending and following the consummation of the Duke Energy/Westcoast transaction.

Comment Date: April 23, 2002.

4. Duke Energy Oakland, LLC

[Docket No. ER01-3034-003]

Take notice that on April 3, 2002, Duke Energy Oakland, LLC (DEO) tendered for filing a copy of its refund report in compliance with the Commission's order in this proceeding, dated February 1, 2002.

Comment Date: April 24, 2002.

5. PJM Interconnection, L.L.C.

[Docket No. ER02-1440-000]

Take notice that on April 4, 2002, PJM Interconnection, L.L.C. (PJM) supplemented its March 29, 2002 filing in this docket by tendering for filing the executed signature page of the PJM West Reliability Assurance Agreement among Load Serving Entities in the PJM West Region (RAA West) for FirstEnergy Solutions Corp.

PJM requests an effective date of April 1, 2002 for FirstEnergy Solutions Corp.”s the RAA West signature page, consistent with the April 1, 2002 implementation date of RAA West and the requested effective date for the signature pages previously filed in this docket.

PJM states that it served a copy of its filing on all parties to the RAA West, including the parties for which a signature page is being tendered with this filing, the PJM members, and each of the state electric regulatory commissions within the PJM region.

Comment Date: April 25, 2002.

6. Xcel Energy Services Inc.

[Docket No. ER02-1467-000]

Take notice that on April 2, 2002 Xcel Energy Services Inc. (XES), on behalf of Public Service Company of Colorado (Public Service), submitted for filing a Service Agreement between Public Service and Energy USA-TPC Corp., which is an umbrella service agreement under Public Service's Rate Schedule for Market-Based Power Sales (FERC Electric Tariff, First Revised Volume No. 6). XES requests that this agreement become effective on March 19, 2002.

Comment Date: April 23, 2002.

7. Public Service Company of New Mexico

[Docket No. ER02-1468-000]

Take notice that on April 2, 2002, Public Service Company of New Mexico (PNM) submitted for filing an executed copy of a Wholesale Power Purchase Agreement (Agreement) dated February 28, 2001 between PNM and Tri-State Generation and Transmission Association, Inc. (Tri-State). The Agreement is being filed as Service Agreement No. 32 under PNM's FERC Electric Tariff, First Revised Volume No. 3 (Power and Energy Sales Tariff), and sets forth the terms and conditions under which PNM and Tri-State will exchange energy and under which PNM will purchase surplus energy from Tri-State. PNM's filing is available for public inspection at its offices in Albuquerque, New Mexico.

Copies of this filing have been served upon Tri-State, the New Mexico Public Regulation Commission, and the New Mexico Attorney General.

Comment Date: April 23, 2002.

8. Western Resources, Inc.

[Docket No. ER02-1469-000]

Take notice that on April 2, 2002, Western Resources, Inc. (WR) (d.b.a. Westar Energy) tendered for filing with the Federal Energy Regulatory Commission (Commission) a Service Agreement between WR and the Southeastern Power Administration (SEPA). WR states that the purpose of this agreement is to permit SEPA to take service under WR's Market Based Power Sales Tariff on file with the Commission. This agreement is proposed to be effective March 20, 2002.

Copies of the filing were served upon SEPA and the Kansas Corporation Commission.

Comment Date: April 23, 2002.

9. KeySpan Glenwood Energy Center LLC

[Docket No. ER02-1470-000]

Take notice that on April 2, 2002, KeySpan-Glenwood Energy Center LLC (Glenwood) tendered for filing pursuant to section 205 of the Federal Power Act its proposed FERC Electric Tariff No. 1.

Glenwood seeks authority to sell energy and capacity, as well as ancillary services, at market-based rates, together with certain waivers and preapprovals. Glenwood also seeks authority to sell, assign, or transfer transmission rights that it may acquire in the course of its marketing activities. Glenwood requests waiver of the Commission's 60-day notice requirement to allow an effective date of April 15, 2002 for its proposed rate schedule.

Comment Date: April 23, 2002.

10. Tampa Electric Company

[Docket No. ER02-1471-000]

Take notice that on April 2, 2002, Tampa Electric Company (Tampa Electric) filed notices of cancellation of its qualifying facility transmission service agreement and related interconnection agreement with Mulberry Phosphates, Inc. (Mulberry). Tampa Electric proposes that the cancellations be made effective on April 1, 2002.

Copies of the filing have been served on Mulberry and the Florida Public Service Commission.

Comment Date: April 23, 2002.

11. Entergy Services, Inc.

[Docket No. ER02-1472-000]

Take notice that on April 2, 2002, Entergy Services, Inc., on behalf of Entergy Gulf States, Inc., tendered for filing an unexecuted, amended and restated Interconnection and Operating Agreement with Cottonwood Energy Company, LP (Cottonwood), and an updated Generator Imbalance Agreement with Cottonwood (the First Revised Interconnection Agreement).

Comment Date: April 23, 2002.

12. Florida Power & Light Company

[Docket No. ER02-1473-000]

Take notice that on April 2, 2002, Florida Power & Light Company (FPL) filed a Power Sales Agreement between FPL and Florida Municipal Power Agency.

Comment Date: April 23, 2002.

13. Virginia Electric and Power Company

[Docket No. ER02-1474-000]

Take notice that on April 3, 2002, Virginia Electric and Power Company (Dominion Virginia Power) tendered for filing an execute Generator Interconnection and Operating Agreement (Interconnection Agreement) with Industrial Power Generating Corporation (Ingenco). The Interconnection Agreement sets forth the terms and conditions governing the interconnection between Ingenco's generating facility and Dominion Virginia Power's transmission system.

Dominion Virginia Power requests that the Federal Energy Regulatory Commission (Commission) waive its notice of filing requirements and accept this filing to make the Interconnection Agreement effective on May 24, 2000. Copies of the filing were served upon Ingenco and the Virginia State Corporation Commission.

Comment Date: April 24, 2002.

14. Troy Energy, LLC

[Docket No. ER02-1475-000]

Take notice that on April 3, 2002, Troy Energy, LLC (the Company) tendered for filing the following Service Agreement by Troy Energy, LLC to Dominion Energy Marketing, Inc., designated as Service Agreement No 1 under the Company's Market-Based Rate Tariff, FERC Electric Tariff, Original Volume No. 1, effective on December 1, 2001. The Company requests an effective date of April 2, 2002, as requested by the customer.

Copies of the filing were served upon the Dominion Energy Marketing, Inc., the Virginia State Corporation Commission, and the North Carolina Utilities Commission.

Comment Date: April 24, 2002.

15. Pleasants Energy, LLC

[Docket No. ER02-1476-000]

Take notice that on April 3, 2002, Pleasants Energy, LLC (the Company) tendered for filing the following Service Agreement by Pleasants Energy, LLC to Dominion Energy Marketing, Inc., designated as Service Agreement No 2 under the Company's Market-Based Rate Tariff, FERC Electric Tariff, Original Volume No. 1, effective on December 1, 2001. The Company requests an effective date of March 20, 2002, as requested by the customer.

Copies of the filing were served upon the Dominion Energy Marketing, Inc., the Virginia State Corporation Commission, and the North Carolina Utilities Commission.

Comment Date: April 24, 2002.

16. Western Resources, Inc.

[Docket No. ER02-1477-000]

Take notice that on April 3, 2002, Western Resources, Inc. (WR) (d.b.a. Westar Energy) tendered for filing a Service Agreement between WR and the East Texas Electric Cooperative, Inc. (ETEC). WR states that the purpose of this agreement is to permit ETEC to take service under WR's Market Based Power Sales Tariff on file with the Federal Energy Regulatory Commission (Commission) Commission. This agreement is proposed to be effective April 12, 2002.

Copies of the filing were served upon ETEC and the Kansas Corporation Commission.

Comment Date: April 24, 2002.

17. Duke Energy Oakland, LLC

[Docket No. ER02-1478-000]

Take notice that on April 3, 2002, Duke Energy Oakland, LLC (DEO) tendered for filing a Third Revised Sheet No. 151 and First Revised Sheet No. 157 to DEO's FERC Electric Rate Schedule No. 2. DEO states that these sheets are filed to amend (1) the Variable O&M Rate reflected in Schedule C, Table C1-18, and (2) the mmBtu figure for Unit No. 1 in schedule D, Table D-1. DEO requests an effective date of January 1, 2002, for these revisions.

Copies of this filing were served upon the California ISO, General Counsel, 151 Blue Ravine Road, Folsom, California 95630, and the Public Utilities Commission of the State of California, Suite 3105, 505 Van Ness Avenue, San Francisco, California 94102.

Comment Date: April 24, 2002.

18. PG&E Dispersed Generating Company, LLC

[Docket No. ER02-1479-000]

Take notice that on April 3, 2002, PG&E Dispersed Generating Company, LLC (PG&E Dispersed Gen) tendered for filing a service agreement for power sales (Service Agreement) with its affiliate, RAMCO, INC. (RAMCO) pursuant to which PG&E Dispersed Gen will sell electric wholesale services to RAMCO at market-based rates according to its FERC Electric Tariff, Original Volume No. 1.

Comment Date: April 24, 2002.

19. Virginia Electric and Power Company

[Docket No. ER02-1480-000]

Take notice that on April 3, 2002, Virginia Electric and Power Company (Dominion Virginia Power) tendered for filing with the Federal Energy Regulatory Commission (Commission) an executed Generator Interconnection and Operating Agreement (Interconnection Agreement) with Industrial Power Generating Corporation (Ingenco). The Interconnection Agreement sets forth the terms and conditions governing the interconnection between Ingenco's generating facility and Dominion Virginia Power's transmission system.

Dominion Virginia Power requests that the Commission waive its notice of filing requirements and accept this filing to make the Interconnection Agreement effective on February 1, 2001. Copies of the filing were served upon Ingenco and the Virginia State Corporation Commission.

Comment Date: April 24, 2002.

20. Progress Energy on Behalf of Carolina Power & Light Company

[Docket No. ER02-1481-000]

Take notice that on April 3, 2002, Carolina Power & Light Company (CP&L) tendered for filing Service Agreements for Non-Firm and Short-Term Firm Point-to-Point Transmission Service with Progress Ventures, Inc. Service to this Eligible Customer will be in accordance with the terms and conditions of the Open Access Transmission Tariff filed on behalf of CP&L.

CP&L is requesting an effective date of March 7, 2002 for these Service Agreements. A copy of the filing was served upon the North Carolina Utilities Commission and the South Carolina Public Service Commission.

Comment Date: April 24, 2002.

21. New England Power Company

[Docket No. ER02-1482-000]

Take notice that on April 3, 2002, New England Power Company (NEP) submitted for filing First Revised Service Agreement No. 178 for service under NEP's Open Access Transmission Tariff, FERC Electric Tariff, Second Revised Volume No. 9 between NEP and Middleborough Municipal Gas & Electric Department (Middleborough).

NEP states that a copy of this filing has been served upon Middleborough and all appropriate state regulators.

Comment Date: April 24, 2002.

22. Progress Energy, Inc. on Behalf of Florida Power Corporation

[Docket No. ER02-1483-000]

Take notice that on April 3, 2002, Florida Power Corporation (FPC) filed a Service Agreement with Old Dominion Electric Cooperative under FPC's Short-Form Market-Based Wholesale Power Sales Tariff (SM-1), FERC Electric Tariff No. 10.

FPC is requesting an effective date of March 10, 2002, for this Agreement. A copy of this filing was served upon the Florida Public Service Commission and the North Carolina Utilities Commission.

Comment Date: April 24, 2002.

23. Public Service Electric and Gas Company

[Docket No. ER02-1484-000]

Take notice that on April 4, 2002, Public Service Electric and Gas Company (PSE&G) submitted for filing an executed Interconnection and Operating Agreement, dated April 3, 2002, between Public Service Electric and Gas Company and PSE&G Fossil LLC.

PSE&G requests an effective date of April 1, 2002. Copies of PSE&G's filing have been served upon the New Jersey Board of Public Utilities.

Comment Date: April 25, 2002.

24. Power Contract Finance, L.L.C.

[Docket No. ER02-1485-000]

Take notice that on April 4, 2002, Power Contract Finance, L.L.C. (PCF), filed with the Federal Energy Regulatory Commission an application for approval of its initial tariff (FERC Electric Tariff Original Volume No. 1), and for blanket approval for market-based rates pursuant to Part 35 of the Commission's regulations.

PCF is a limited liability company formed under the laws of Delaware. PCF does not own any generating facilities.

Comment Date: April 25, 2002.

25. Cogen Technologies NJ Venture

[Docket No. ER02-1486-000]

Take notice that on April 4, 2002, Cogen Technologies NJ Venture (Cogen Technologies), filed with the Federal Energy Regulatory Commission an application for approval of its initial tariff (FERC Electric Tariff Original Volume No. 1), and for blanket approval for market-based rates pursuant to Part 35 of the Commission's regulations.

Cogen Technologies is a joint venture formed under the laws of New Jersey. NJ Venture owns and operates a 177-MW cogeneration facility located in Bayonne, New Jersey.

Comment Date: April 25, 2002.

26. Midwest Independent Transmission System Operator, Inc.

[Docket No. ER02-1487-000]

Take notice that on April 4, 2002, Midwest Independent Transmission System Operator, Inc. (Midwest ISO) pursuant to section 205 of the Federal Power Act and section 35.13 of the Federal Energy Regulatory Commission's (Commission) regulations, 18 CFR 35.13 submitted for filing Service Agreements for the transmission service requested by Powerex Corp.

A copy of this filing was sent to Powerex Corp.

Comment Date: April 25, 2002.

27. STI Capital Company

[Docket No. ER02-1488-000]

Take notice that on April 4, 2002, STI Capital Company tendered for filing with the Federal Energy Regulatory Commission (Commission) the long-term service agreement between SIT Capital Company and Fenton LLC and Bowles LLC.

Comment Date: April 25, 2002.

28. Perryville Energy Partners, L.L.C.

[Docket No. ER02-1489-000]

Take notice that on April 4, 2002, Perryville Energy Partners, L.L.C. tendered for filing with the Federal Energy Regulatory Commission (Commission), a First Revised Tolling Agreement between Perryville Energy Partners, L.L.C. and Mirant Americas Energy Marketing, L.P. The filing is made pursuant to Perryville Energy Partners, L.L.C.”s authority to sell power at market-based rates under its Market-Based Rates Tariff, FERC Electric Tariff Original Volume No. 1, approved by the Commission May 3, 2001 in Docket No. ERO1-1397-000.

Comment Date: April 25, 2002.

29. Kentucky Utilities Company

[Docket No. ER02-1490-000]

Take notice that on April 4, 2002, Kentucky Utilities Company (KU) tendered for filing executed amendments for 21 contracts with full requirements municipal customers of KU. The amendment provides for a modification of the Method of Reimbursement language for contracts where the municipal utilities are allocated power from the Southeastern Power Administration (SEPA). The amendment adds language that provides for third party participation in the procurement and distribution of SEPA power allocated to the municipal utilities and the resulting billing credits that the municipal utilities will receive. The amendment also specifically requires the municipal utilities to bear all the risk of non-payment by the third party.

Comment Date: April 25, 2002.

30. Kentucky Utilities Company

[Docket No. ER02-1491-000]

Take notice that on April 4, 2002, Louisville Gas and Electric/Kentucky Utilities Company (LG&E/KU) filed a termination notice for power sales service between LG&E/KU and FirstEnergy Solutions Corp. The terminated services agreement was accepted by the FERC in Docket No. ER98-1274.

Comment Date: April 25, 2002.

31. Kansas Gas and Electric Company

[Docket No. ES02-21-001]

Take notice that on April 3, 2002, Kansas Gas and Electric Company submitted an amendment to its original application in this proceeding, pursuant to section 204 of the Federal Power Act. The amendment seeks authorization to pledge first mortgage bonds to secure an aggregate of $500 million worth of short-term debt securities, rather than $1.0 billion, issued by Western Resources.

Comment Date: May 1, 2002.

32. Kansas Gas and Electric Company

[Docket No. ES02-22-001]

Take notice that on April 3, 2002, Kansas Gas and Electric Company (KG&E) submitted an amendment to its original application in this proceeding, pursuant to section 204 of the Federal Power Act. The amendment seeks authorization to eliminate the request for medium-term securities and to clarify that the authorization requested to pledge first mortgage bonds would apply only to KG&E's short-term securities. KG&E states the proposed short-term debt securities would maintain and/or replace the existing revolving credit facility of Western Resources in the aggregate principal amount of $500 million.

Comment Date: May 1, 2002.

33. Western Resources, Inc.

[Docket No. ES02-23-001]

Take notice that on April 3, 2002, Western Resource, Inc. submitted an amendment to its original application in this proceeding, pursuant to section 204 of the Federal Power Act. The amendment seeks authorization to eliminate the request for medium-term securities and to clarify that the authorization requested to pledge first mortgage bonds would apply only to Western Resources, Inc.”s short-term securities. Western Resources, Inc. states the proposed short-term debt securities would maintain and/or replace its existing revolving credit facility in the aggregate principal amount of $500 million.

Comment Date: May 1, 2002.

34. Vineland Cogeneration

[Docket No. QF90-176-004]

Take notice that on April 4, 2002, Vineland Cogeneration Limited Partnership, 536 West Elmer Road, Vineland, NJ 08360, filed with the Federal Energy Regulatory Commission (Commission) an application for recertification of a facility as a qualifying cogeneration facility pursuant to section 292.207(b) of the Commission's regulations.

The Commission previously certified the facility as a qualifying cogeneration facility in Docket No. QF90-176-001. Recertification is sought to reflect a change in the upstream ownership interests in the facility. The facility is interconnected with and supplies electric power to the Vineland Municipal Electric Utility.

Comment Date: April 30, 2002.

Standard Paragraph

E.Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-9252 Filed 4-16-02; 8:45 am]

BILLING CODE 6717-01-P